DEPARTMENT OF ENERGY

Notice of Availability of Secretarial Determination and Basis for Determination Under Section 3116 of the Ronald W. Reagan National Defense Authorization Act for Fiscal Year 2005 (NDAA) for Closure of the F-Tank Farm at the Savannah River Site and Clarification for Its Record of Decision: Savannah River Site High-Level Waste Tank Closure

AGENCY: Office of Environmental Management, U.S. Department of Energy.

ACTION: Notice of availability.

SUMMARY: The Department of Energy (DOE) announces the availability of the Secretarial Determination and Basis for Section 3116 Determination for Closure of the F-Tank Farm (FTF) at the Savannah River Site (FTF 3116 Basis Document). DOE prepared and approved the FTF 3116 Basis Document pursuant to Section 3116(a) of the NDAA, which provides that the Secretary of Energy may, in consultation with the U.S. Nuclear Regulatory Commission (NRC), determine that certain waste from reprocessing of spent nuclear fuel is not high-level waste if the provisions set forth in Section 3116(a) are satisfied. To make the determination for the FTF, the Secretary of Energy determined that the waste in the FTF: (1) Does not require permanent isolation in a deep geologic repository for spent fuel or high-level radioactive waste; (2) has had highly radioactive radionuclides removed to the maximum extent practical; and (3)(A) does not exceed concentration limits for Class C low-level waste and will be disposed of in compliance with the performance objectives in 10 CFR part 61, Subpart C and pursuant to a State approved closure plan or State-issued permit; or (3)(B) exceeds concentration limits for Class C low-level waste but will be disposed of in compliance with the performance objectives of 10 CFR part 61, Subpart C; pursuant to a State-approved closure plan or State-issued permit; and pursuant to plans developed by DOE in consultation with the NRC. DOE has also clarified its Record of Decision: Savannah River Site High-Level Waste Tank Closure issued on August 19, 2002 (67 FR 53784) in which the Department decided to implement the “Stabilize Tanks—Fill with Grout” option evaluated in the Savannah River Site High-Level Waste Tank Closure Final Environmental Impact Statement (EIS) (DOE/EIS-0303; May 2002). DOE is not changing its decision to implement the “Stabilize Tanks—Fill with Grout” option but is publishing this Notice to clarify that the decision to close the tanks has been made pursuant to NDAA Section 3116(a). All other aspects of the 2002 Record of Decision remain unchanged.

ADDRESSES: The Basis for Determination and the Supplement Analyses to the NEPA ROD is available on the Internet at http://sro.srs.gov/f_htankfarmsdocuments.htm, and http://www.em.doe.gov/stakepages/wmdi_swd.aspx?PAGEID=WMDI is publicly available at the following locations:

District of Columbia

U.S. Department of Energy, Freedom of Information Act, Public Reading Room, 1000 Independence Avenue SW., Room 1G-033, Washington, DC 20585, (202) 586-5955.

South Carolina

University of South Carolina-Aiken, Gregg-Graniteville Library, 471 University Parkway, Aiken, SC 29801, (803) 641-3320.

For more information, contact: Ms. Sherri Ross, DOE-SR, Building 704-S, Room 43, U.S. Department of Energy, Savannah River Operations Office, Aiken, SC 29802 (ATTN: F-Tank Farm Secretarial Determination and Basis).

SUPPLEMENTARY INFORMATION: The FTF is a 22-acre site, located at the Savannah River Site near Aiken, South Carolina. The FTF consists of 22 underground radioactive waste storage tanks and supporting ancillary structures. Two of those waste tanks, Tanks 17 and 20 were cleaned and operationally closed in 1997, prior to enactment of NDAA Section 3116. Accordingly, Tanks 17 and 20 are not within the scope of this FTF Section 3116 Basis Document. The major FTF ancillary structures are two evaporator systems, transfer lines, six diversion boxes, one catch tank, a concentrate transfer system, three pump pits, three pump tanks and eight valve boxes. There are three waste tank types in FTF with operating capacities ranging from 750,000 gallons (Type I tanks) to 1,300,000 gallons (Type III/IIIA and Type IV tanks). The waste tanks have varying degrees of secondary containment and in-tank structural features such as cooling coils and columns. All FTF waste tanks are constructed of carbon steel. The FTF was constructed to receive waste generated by various SRS production, processing and laboratory facilities.

DOE has initiated waste removal and cleaning of tanks and ancillary structures in the FTF using a process that includes removing bulk waste from tanks and ancillary structures and then deploying tested technologies to removing the majority of the remaining waste. After completing cleaning operations, a small amount of residual radioactive waste will remain in the tanks, ancillary equipment and piping. DOE plans to stabilize the residuals in the tanks and certain ancillary structures with grout. Tank waste storage and removal operations in the FTF are governed by a South Carolina Department of Health and Environmental Control (SCDHEC) industrial wastewater operating permit. Removal of tanks from service and stabilization of the FTF waste tanks and ancillary structures will be carried out pursuant to a State-approved closure plan, the Industrial Wastewater General Closure Plan for F-Area Waste Tank Systems (GCP). Specific Closure Modules for each tank or ancillary structure or groupings of tanks and ancillary structures have been developed and submitted to SCDHEC for approval. SCDHEC approved the specific and final closure configuration documentation and after grouting, the tank/system will be removed from the State's industrial wastewater permit. This FTF Section 3116 Basis Document applies to stabilized residuals in the waste tanks and ancillary structures, the waste tanks, and the ancillary structures in the FTF at the time of closure.

Dated: Issued in Washington, DC, on March 29, 2012.
Mark Gilbertson,
Deputy Assistant Secretary for Site Restoration.

[FR Doc. 2012-8075 Filed 4-3-12; 8:45 am]

BILLING CODE 6450-01-P